ENVIRONMENTAL PROTECTION AGENCY

[FRL-6837-8]

Proposed Administrative Settlement Under the Comprehensive Environmental Response, Compensation and Liability Act; Butler Mine Tunnel De Minimis Settlement

AGENCY: Environmental Protection Agency.

ACTION: Notice; request for public comment.

SUMMARY: In accordance with section 122(i)(1) of CERCLA, 42 U.S.C. 9622(i)(1), notice is hereby given of a proposed administrative settlement concerning the Butler Mine Tunnel Superfund Site in Pittston Township, Luzerne County, Pennsylvania. The administrative settlement was signed by the United States Environmental Protection Agency, Region III's Regional Administrator on June 2, 2000, and is subject to review by the public pursuant to this document. The agreement has been approved by the Attorney General, United States Department of Justice or her designee.

The Environmental Protection Agency is proposing to enter into a de minimis settlement pursuant to section 122(g) of the Comprehensive Environmental Response, Compensation, and Liability Act of 1980, as amended, (CERCLA), 42 U.S.C. 9622(g). This proposed settlement is intended to resolve the liability under CERCLA of one de minimis party for response costs incurred by the United States Environmental Protection Agency at the Butler Mine Tunnel Superfund Site, Pittston Township, Luzerne County, Pennsylvania.

The City of College Park, a municipality, is the Settling Party who has executed binding certifications of its consent to participate in this settlement. This party has agreed to pay $4,000 to the United States Environmental Protection Agency subject to the contingency that the Environmental Protection Agency may elect not to complete the settlement based on matters brought to its attention during the public comment period established by this document.

For thirty (30) days following the date of publication of this notice, EPA will receive written comments relating to the proposed settlement. EPA will consider all comments received and may withdraw or withhold consent to the proposed settlement if such comments disclose facts or considerations which indicate the proposed settlement is inappropriate, improper, or inadequate. EPA's response to any written comments received will be available for public inspection at the U.S. Environmental Protection Agency, Region III, 1650 Arch Street, Philadelphia, PA 19103.

DATES: Comments must be provided on or before August 17, 2000.

ADDRESSES: Comments should be addressed to the Docket Clerk, United States Environmental Protection Agency, Region III, 1650 Arch Street, Philadelphia, Pennsylvania, 19103, and should refer to: In Re: Butler Mine Tunnel Superfund Site, Pittston Township, Luzerne County, Pennsylvania, U.S. EPA Docket No. CERC-DEM-2000-01. The proposed settlement agreement is available for public inspection at the United States Environmental Protection Agency, Region III. A copy of the Administrative Order on Consent can be obtained from the Environmental Protection Agency, Region III, Office of Regional Counsel, (3RC44), 1650 Arch Street, Philadelphia, Pennsylvania, 19103 by contacting Dawnmarie Dominski, Paralegal Specialist, at (215) 814-2614.

FOR FURTHER INFORMATION CONTACT: Charles Hayden, Assistant Regional Counsel, (215) 814-2668, United States Environmental Protection Agency, Office of Regional Counsel, (3RC44), 1650 Arch Street, Philadelphia, Pennsylvania, 19103.

SUPPLEMENTARY INFORMATION: The Environmental Protection Agency is entering into this agreement under the authority of sections 122(g) and 107 of CERCLA, 42 U.S.C. 9622(g) and 9607. Section 122(g) of CERCLA, 42 U.S.C. 9622(g), authorizes early settlements with de minimis parties to allow them to resolve their liabilities under, inter alia, section 107 of CERCLA, 42 U.S.C. 9607, to reimburse the United States for response costs incurred in cleaning up Superfund sites without incurring substantial transaction costs. Under this authority the Environmental Protection Agency proposes to settle with a municipal party at the Butler Mine Tunnel Superfund Site who is responsible for less than one percent of the volume of identified hazardous substances at the Site. The de minimis party listed above will be required to pay its volumetric share of the Government's past response costs and the estimated future response costs at the Butler Mine Tunnel Superfund Site.

Dated: July 7, 2000.
Bradley M. Campbell,
Regional Administrator, Region III.

[FR Doc. 00-18106 Filed 7-17-00; 8:45 am]

BILLING CODE 6560-50-P